FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011707-007.

Title: Gulf/South America Discussion Agreement.

Parties: BBC Chartering & Logistic GMBH & Co. KG; Industrial Maritime Carriers (U.S.A.) Inc.; and West Coast Industrial Express, LLC.

Filing Party: Wade S. Hooker, Esq.; 211 Central Park W; New York, NY 10024.

Synopsis: The amendment deletes Associated Transport Line as a party to the agreement.

Agreement No.: 201103-010.

Title: Memorandum Agreement of the Pacific Maritime Association of December 14, 1983 Concerning Assessments to Pay ILWU-PMA Employee Benefit Costs, As Amended, Through May 12, 2011.

Parties: Pacific Maritime Association and International Longshore and Warehouse Union.

Filing Party: David F. Smith, Esq.; Cozen O'Connor; 1627 I Street, NW. Suite 1100; Washington, DC 20006.

Synopsis: The amendment revises how the man-hour base assessment will be calculated.

Agreement Nos.: 201122-001.

Title: Pacific Maritime Services Cooperative Working Agreement.

Parties: COSCO Terminals America, Inc.; SSA Containers, Inc., and SSA Ventures, Inc.

Filing Party: David F. Smith, Esq.; Cozen O'Connor; 1627 I Street, NW. Suite 1100; Washington, DC 20006.

Synopsis: The amendment extends the agreement indefinitely and updates the name of SSA Containers, Inc.

By Order of the Federal Maritime Commission.
Dated: May 20, 2011.
Karen V. Gregory,
Secretary.

[FR Doc. 2011-12970 Filed 5-24-11; 8:45 am]

BILLING CODE 6730-01-P